DEPARTMENT OF HEALTH AND HUMAN SERVICES

National Institutes of Health

National Human Genome Research Institute; Amended Notice of Meeting

Notice is hereby given of a change in the meeting of the National Human Genome Research Institute, Center for Inherited Disease Research Access Committee, November 3, 2023, 11:30 a.m. to 12:30 p.m., National Institutes of Health, National Human Genome Research Institute, 6700B Rockledge Drive, Room 3172, Bethesda, MD 20892, which was published in the Federal Register on September 28, 2023, FR DOC 2023-21148, 88 FR 66863.

The National Human Genome Research Institute, Center for Inherited Disease Research Access Committee meeting is being rescheduled due to panel member availability. The meeting date and time has been changed to November 9, 2023, from 2:00 p.m. to 3:00 p.m. This meeting will be closed to the public.

Dated: October 19, 2023.
Melanie J. Pantoja,
Program Analyst, Office of Federal Advisory Committee Policy.

[FR Doc. 2023-23423 Filed 10-23-23; 8:45 am]

BILLING CODE 4140-01-P